DEPARTMENT OF AGRICULTURE

Forest Service

Clearwater National Forest; ID; Upper Lochsa Land Exchange EIS

ACTION: Notice of Intent To Prepare a Supplemental Draft Environmental Impact Statement.

SUMMARY: The Forest Service will prepare a Supplemental Draft Environmental Impact Statement (SDEIS) for the Upper Lochsa Land Exchange. In the proposed land exchange the Forest Service would acquire approximately 39,371 acres of checkerboard land from Western Pacific Timber (WPT) located in Idaho and Clearwater Counties. The land is intermingled with the Clearwater National Forest near Powell, Idaho in the upper Lochsa River drainage. The Forest Service would convey to WPT an equal value of National Forest System (NFS) land located in Benewah, Bonner, Clearwater, Idaho Kootenai and Latah counties on the Clearwater, Nez Perce and Idaho Panhandle National Forests. The Notice of Availability for the Draft EIS for this project was published in the Federal Register (#72824 Vol. 75, No. 227) on November 26, 2010. An SDEIS is being prepared to analyze a new alternative for exchange. The Idaho County Commissioners commented on the DEIS and stated that except for the No Action Alternative the rest of the alternatives analyzed would have negative economic impacts to Idaho County. The Commissioners identified approximately 45,043 acres of NFS land on the Nez Perce National Forest, entirely within Idaho County, that could be considered for exchange for the approximately 39,371 acres of checkerboard land that primarily lie within Idaho County. The Forest Service considered the proposal carefully and determined that an SDEIS is required to analyze an alternative where all the Federal lands proposed for exchange are in Idaho County.

DATES: Scoping is not required for supplements to environmental impact statements (40 CFR 1502.9(c) (4). There was extensive public involvement during the original public scoping for the project and during comment to the Draft EIS. The Forest Service is not inviting scoping comments at this time. However, a Notice of Exchange Proposal is required (36 CFR 254.8) and will be published four times in the local papers of record. The purpose of this four week notice is to invite the public to submit comments and concerns about the exchange proposal, including knowledge of any liens, encumbrances, or other claims involving the new land being considered for exchange. The public can respond in writing to the Notice of Exchange Proposal and comments must be postmarked within 45 days after the initial date of publication.

ADDRESSES: The line officer responsible for this analysis is: Rick Brazell, Forest Supervisor, Clearwater National Forest, 12730 HWY 12, Orofino, ID 83544.

FOR FURTHER INFORMATION CONTACT: Teresa Trulock, Project Manager at the Clearwater National Forest (208) 935-4256.

SUPPLEMENTARY INFORMATION:

Purpose and Need for Action

The purpose of this proposed land exchange is to consolidate land ownership in the upper Lochsa River drainage to provide more efficient and effective resource management.

This purpose can be achieved by exchanging parcels of federal lands for WPT lands. Need—The current ownership pattern has a considerable effect on how the Forest Service manages NFS lands in the upper Locsha River drainage. Over the years, differing management practices on the private lands has influenced resource management decision on the NFS lands. The mixed ownership pattern also reduces the ability to apply ecosystem management principles across the landscape. More effective conservation and management of natural resources can be achieved by consolidating these lands and managing the ecosystem as a whole. For example, current ownership results in an inability to use fuel and topography to engage fires on a cost-effective basis. Also, more efficiency can be gained by reducing administrative costs associated with boundary maintenance and cost share roads.

In general the land exchange provides the opportunity for the Forest Service to acquire checkerboard lands which encompass the headwaters of the Lochsa River and hold outstanding values for aquatic and terrestrial species along with significant cultural resources.

Modified Proposed Action

The DEIS identified Alternative B as the Modified Proposed Action. In the Modified Proposed Action, the Forest Service proposes a land-for-land exchange which includes approximately 17,854 acres of National Forest System land for approximately 39,371 acres of WPT land. The lands included in this modified proposed action are located within Benewah, Clearwater, Latah, Bonner, Kootenai and Idaho Counties.

The federal lands consist of scattered parcels located on the Nez Perce, Clearwater and Idaho Panhandle National Forest in north Idaho. For the most part, federal parcels are timbered and are characterized by irregular boundaries surrounded by mixed ownership and small tracts of land isolated from other national Forest land.

The WPT lands proposed for exchange are checkerboard lands intermingled with Clearwater National Forest lands in the upper Lochsa River drainage. For the past 50 years, WPT lands were managed primarily for timber production. For the most part these lands currently meet State Best Management Practices for timber production lands.

The modified proposed action would authorize the transfer of land ownership and management authority, including the mineral estate, between the two parties. The modified proposed action would not authorize any site-specific management activities by either party.

New Alternative

The DEIS analyzed five alternatives: Alternative A—No Action, Alternative B—Modified Proposed Action, Alternative C—Land Exchange with a Purchase Component, Alternative D—Land Exchange and Purchase with Phased Implementation and Alternative E—Direct Purchase of Non-Federal Lands. The DEIS identified Alternative D as the Forest Service Preferred Alternative.

The SDEIS is being completed to analyze the additional alternative where all the Federal lands proposed for exchange are in Idaho County. The additional federal lands being considered for exchange include approximately 45,043 acres of NFS lands on the Nez Perce National Forest. These are generally described as three tracts of land located to the east and to the south of Grangeville, Idaho and two tracts of land located to the northwest of Riggins, Idaho. These five NFS tracts of land are relatively large ranging in size from 3,200 acres to nearly 20,000 acres. They are located along the edge of the Nez Perce National Forest bordering private and State lands. For the most part these tracts are timbered.

These Federal lands are being considered in addition to approximately 17,854 acres that have been analyzed for exchange in the DEIS for a total of approximately 62,897 acres. It is anticipated that this is more than adequate federal acreage to complete an equal value land exchange. The new federal land proposed will be refined through future public involvement processes.

Responsible Official

Rick Brazell, Forest Supervisor, Clearwater National Forest, 12730 HWY 12, Orofino, Idaho 83544.

Nature of Decision To Be Made

The decision to be made is whether or not to complete a land exchange between the Forest Service and Western Pacific Timber. In the decision, the Forest Supervisor will answer the following questions based on the environmental analysis: (1) Whether the modified proposed action will proceed as proposed, as modified by an alternative, or not at all, (2) whether the project requires any Forest Plan amendments? This decision will be documented in the Record of Decision for the Upper Lochsa Land Exchange Final Environmental Impact Statement (FEIS). If the decision that is made would require an amendment to any of the Forest Plans, the analysis and documentation for the amendment will be included. The decision will be subject to appeal in accordance with 36 CFR 215.

Early Notice of Importance of Public Participation in Subsequent Environmental Review: The SDEIS is expected to be available for public review and comment in October 2011. The comment period for the SDEIS will be 45 days from the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the project, comments on the SDEIS should be as specific as possible. It is also helpful if comments refer to specific pages or chapters of the SDEIS. Comments may also address the adequacy of the SDEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: August 29, 2011.
Rick Brazell,
Forest Supervisor, Clearwater National Forest.

[FR Doc. 2011-23141 Filed 9-9-11; 8:45 am]

BILLING CODE 3410-11-M